DEPARTMENT OF THE TREASURY

Office of the Comptroller of the Currency

[Docket ID OCC-2025-0471]

FEDERAL RESERVE SYSTEM

[Docket No. OP-1872]

FEDERAL DEPOSIT INSURANCE CORPORATION

RIN 3064-ZA51

Request for Information: Streamlining the Call Report

AGENCY: Office of the Comptroller of the Currency (OCC), Treasury; Board of Governors of the Federal Reserve System (Board); and Federal Deposit Insurance Corporation (FDIC).

ACTION: Request for information and comment.

SUMMARY: The OCC, the Board, and the FDIC (the agencies) seek public input on sources of regulatory reporting burden for institutions that currently file the Consolidated Reports of Condition and Income (Call Report) (FFIEC 031, FFIEC 041, and FFIEC 051). This request for information (RFI) offers the opportunity for interested stakeholders to identify ways that the agencies could streamline the Call Report forms and instructions while still meeting the purposes of the collection.

DATES: Comments must be submitted on or before January 30, 2026.

ADDRESSES: Interested parties are invited to submit written comments to any or all of the agencies. Comments should be directed to:

OCC: Commenters are encouraged to submit comments through the Federal eRulemaking Portal. Please use the title “Request for Information: Streamlining the Call Report” to facilitate the organization and distribution of the comments. You may submit comments by any of the following methods:

• Federal eRulemaking Portal—Regulations.gov:

Go to https://regulations.gov/. Enter Docket ID “OCC-2025-0471” in the Search Box and click “Search.” Public comments can be submitted via the “Comment” box below the displayed document information or by clicking on the document title and then clicking the “Comment” box on the top-left side of the screen. For help with submitting effective comments, please click on “Commenter's Checklist.” For assistance with the Regulations.gov site, please call 1-866-498-2945 (toll free) Monday-Friday, 9 a.m.-5 p.m. EST, or email regulationshelpdesk@gsa.gov.

• Mail: Chief Counsel's Office, Attention: Comment Processing, Office of the Comptroller of the Currency, 400 7th Street SW, Suite 3E-218, Washington, DC 20219.

• Hand Delivery/Courier: 400 7th Street SW, Suite 3E-218, Washington, DC 20219.

Instructions: You must include “OCC” as the agency name and Docket ID “OCC-2025-0471” in your comment. In general, the OCC will enter all comments received into the docket and publish the comments on the Regulations.gov website without change, including any business or personal information provided such as name and address information, email addresses, or phone numbers. Comments received, including attachments and other supporting materials, are part of the public record and subject to public disclosure. Do not include any information in your comment or supporting materials that you consider confidential or inappropriate for public disclosure.

You may review comments and other related materials that pertain to this action by the following method:

• Viewing Comments Electronically—Regulations.gov:

Go to https://regulations.gov/. Enter Docket ID “OCC-2025-0471” in the Search Box and click “Search.” Click on the “Dockets” tab and then the document's title. After clicking the document's title, click the “Browse All Comments” tab. Comments can be viewed and filtered by clicking on the “Sort By” drop-down on the right side of the screen or the “Refine Comments Results” options on the left side of the screen. Supporting materials can be viewed by clicking on the “Browse Documents” tab. Click on the “Sort By” drop-down on the right side of the screen or the “Refine Results” options on the left side of the screen checking the “Supporting & Related Material” checkbox. For assistance with the Regulations.gov site, please call 1-866-498-2945 (toll free) Monday-Friday, 9 a.m.-5 p.m. EST, or email regulationshelpdesk@gsa.gov.

The docket may be viewed after the close of the comment period in the same manner as during the comment period.

Board: You may submit comments, which should refer to “Request for Information: Streamlining the Call Report,” by any of the following methods:

• Agency website: http://www.federalreserve.gov. Follow the instructions for submitting comments at: http://www.federalreserve.gov/generalinfo/foia/ProposedRegs.cfm.

• Email: regs.comments@federalreserve.gov. Include “Request for Information: Streamlining the Call Report” in the subject line of the message.

• Fax: (202) 395-6974.

• Mail: Benjamin W. McDonough, Deputy Secretary of the Board, Board of Governors of the Federal Reserve System, 20th Street and Constitution Avenue NW, Washington, DC 20551.

All public comments are available on the Board's website at https://www.federalreserve.gov/apps/foia/proposedregs.aspx as submitted, unless modified for technical reasons. Accordingly, your comments will not be edited to remove any identifying or contact information.

FDIC: You may submit comments, which should refer to “RIN 3064-ZA51,” by any of the following methods:

• Agency Website: https://www.fdic.gov/federal-register-publications. Follow the instructions for submitting comments on the FDIC's website.

• Email: comments@FDIC.gov. Include “RIN 3064-ZA51” in the subject line of the message.

• Mail: Jennifer Jones, Deputy Executive Secretary, Attention: Comments RIN 3064-ZA51, Federal Deposit Insurance Corporation, 550 17th Street NW, Washington, DC 20429.

• Hand Delivery: Comments may be hand delivered to the guard station at the rear of the 550 17th Street NW building (located on F Street NW) on business days between 7 a.m. and 5 p.m.

• Public Inspection: All comments received, including any personal information provided, will be posted without change to https://www.fdic.gov/federal-register-publications. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of this document will be retained in the public comment file and will be considered as required under all applicable laws. All comments may be accessible under the Freedom of Information Act.

FOR FURTHER INFORMATION CONTACT: For further information about this request for comment, please contact any of the agency staff whose names appear below. In addition, the report forms and instructions for the Call Reports can be obtained at the FFIEC's website (https://www.ffiec.gov/resources/reporting-forms).

OCC: Cady Codding, (202) 649-6280, or Kevin Korzeniewski, Counsel, (202) 649-5490, Chief Counsel's Office, Office of the Comptroller of the Currency, 400 7th Street SW, Washington, DC 20219. If you are deaf, hard of hearing, or have a speech disability, please dial 7-1-1 to access telecommunications relay services.

Board: Michelle Shore, Regulatory Reporting Manager, (202) 577-7918, or Kevin Littler, (202) 997-8325, Board of Governors of the Federal Reserve System, 20th and C Streets NW, Washington, DC 20551. Telecommunications Device for the Deaf (TDD) users may call (202) 263-4869.

FDIC: Bryan Jonasson, (781) 794-5641, or Kimberly Yeh, Senior Attorney, (202) 898-6514, Legal Division, Federal Deposit Insurance Corporation, 550 17th Street NW, Washington, DC 20429.

SUPPLEMENTARY INFORMATION:

I. Call Report Background

The Federal Financial Institutions Examination Council (FFIEC), of which the agencies are members, is required to develop uniform reporting systems for Federally-supervised financial institutions.¹ Current FFIEC information collections include the Consolidated Reports of Condition and Income for a Bank with Domestic and Foreign Offices (FFIEC 031), the Consolidated Reports of Condition and Income for a Bank with Domestic Offices Only (FFIEC 041), and the Consolidated Reports of Condition and Income for a Bank with Domestic Offices Only and Total Assets Less Than $5 Billion (FFIEC 051; collectively, the Call Report).² Banks and savings associations submit Call Report data to the agencies each quarter as required by law.³ The agencies use this data in monitoring the condition, performance, and risk profile of individual institutions and the industry as a whole. The collection of Call Report data assists the agencies in fulfilling their shared missions of ensuring the safety and soundness of financial institutions and the financial system and protecting consumer financial rights, as well as agency-specific missions affecting Federal and State-chartered institutions, such as conducting monetary policy, ensuring financial stability, and administering Federal deposit insurance. For many institutions, Call Reports are the source of the most current statistical data available for identifying areas of focus for on-site and off-site examinations. Among other purposes, the agencies use Call Report data in evaluating institutions' corporate applications, including interstate merger and acquisition applications for which the agencies are required by law to determine whether the resulting institution would control more than 10 percent of the total amount of deposits of insured depository institutions in the United States. Call Report data also are used to calculate risk-based assessments for insured depository institutions.

¹ 12 U.S.C. 3305.

² See https://www.ffiec.gov/resources/reporting-forms.

³ 12 U.S.C. 161 (national banks), 12 U.S.C. 324 (State member banks), 12 U.S.C. 1464 (Federal and State savings associations), and 12 U.S.C. 1817 (insured State nonmember commercial and savings banks).

II. Regulatory Reporting Review

A. Background

The agencies are required to review the data collected in the Call Report every five years and reduce or eliminate any items (other than those required by law) the agencies determine are no longer necessary or appropriate (statutory review).⁴ The agencies are preparing to conduct their next statutory review, which will consider Call Report data required from respondents of all sizes and complexities. In conjunction with the statutory review, the agencies are seeking input on ways to streamline the Call Report to better align with the size and complexity of the reporting institution. Additionally, the FFIEC and the agencies received comments on potential modifications to the Call Report through a review of their regulations required at least once every ten years under the Economic Growth and Regulatory Paperwork Reduction Act (EGRPRA).⁵ As part of the EGRPRA review, on February 6, 2024, the agencies requested comments in the Federal Register on reporting required by regulation (EGRPRA notice).⁶ The comment period for this EGRPRA notice ended May 6, 2024, and the agencies are continuing to review the comments received. In response to the EGRPRA notice, certain commenters stated that the information collected on the Call Report exceeds what is necessary. These commenters recommended additional tailoring of the Call Report and changes to reporting in at least the first and third quarters of the year.⁷ In preparation for the statutory review and to identify opportunities to better align reporting toward monitoring core financial risks, the agencies are using this RFI to seek public feedback on potential ways to streamline the Call Reports.

⁴ See 12 U.S.C. 1817(a)(11).

⁵ See 12 U.S.C. 3311.

⁶ 89 FR 8084 (February 6, 2024).

⁷ Comments are available at https://egrpra.ffiec.gov/federal-register-notices/fedreg-index.html.

The agencies are interested in identifying which schedules and individual line items require the most resources to complete each quarter and welcome respondent views on whether any data items go beyond monitoring the core financial risks of the filing institution. The agencies are also seeking comments on what changes, if any, to the frequency of reporting schedules and data items could improve the efficiency of the collection and for which categories of respondents. The agencies are interested in learning what data institutions collect and maintain in their loan systems and other automated systems, including outsourced systems, for internal reporting and Call Report purposes. A better understanding of what data institutions currently maintain or calculate solely for Call Report purposes, and items that require manual calculation, may inform the agencies' ability to better align institutions' internal and external reporting, as appropriate. Relatedly, the agencies also are seeking information on changes in respondents' use of reporting technologies and whether current and emerging technologies could be used to simplify the reporting of Call Report data.

The agencies are also considering whether to further streamline the FFIEC 051 version of the Call Report and expand the availability of that form to institutions with significantly greater than $5 billion in total assets. The agencies are required to permit institutions to submit a short form Call Report in first and third quarters of each year for institutions with less than $5 billion in total consolidated assets and that satisfy other criteria that the agencies determine appropriate.⁸ The agencies have implemented this requirement through the FFIEC 051.⁹ The agencies are not prohibited, however, from expanding the availability of a short form Call Report to larger institutions. Accordingly, the agencies are interested in whether to expand the usage of the FFIEC 051 to larger institutions and how to further streamline the information collected by the FFIEC 051.

⁸ 12 U.S.C. 1817(a)(12).

⁹ The agencies introduced the FFIEC 051 in March 2017 (82 FR 2444, January 9, 2017) and, in September 2019, implemented certain reduced reporting for the first and third quarters of the year for respondents with total assets of less than $5 billion (84 FR 29039, June 21, 2019).

The agencies will use the feedback received in response to this notice to assess what steps they should take to improve the efficiency and effectiveness of the Call Report. If the agencies determine that a change to the existing data collection on the Call Report is warranted, the agencies will seek further comment on a specific proposal to revise the data collection in accordance with the Paperwork Reduction Act.

B. Specific Request for Comment

General Questions on the Call Report

During previous Call Report reviews conducted by the agencies, some institutions indicated that Call Report preparation is not a fully automated process where data flows directly from core data processing systems to the Call Report software and into the individual Call Report items. To assist in identifying other ways to make Call Report preparation more efficient, commenters are invited to respond to the following questions:

1. Which specific line items or schedules on the Call Report are the most time-consuming to prepare or require significant manual adjustments (for example, to convert internal data from core data processing, general ledger, or other systems into the form required) to complete the Call Report? Why is this the case?

2. For institutions that use manual processes to complete the Call Report, is there software available, from core system vendor(s) or elsewhere, to increase automation and efficiency? If so, what are the hurdles, if any, to utilizing such software?

3. Certain Call Report data items may not be applicable for banking organizations that conduct a narrow range of business activities. To what extent and in what ways does the inclusion of Call Report data items that do not apply to a respondent on an ongoing basis affect data quality and respondent burden?

The agencies regularly review their requirements for filing the Call Report. In addition to considering respondents' internal data preparation, the agencies are seeking comments on their submission requirements, including through the following questions.

4. What process changes, if any, should the agencies consider for filing the Call Report?

5. Are there specific recordkeeping requirements associated with completing the Call Report that the agencies should address?

6. During the EGRPRA review, respondents suggested the agencies consider adjusting the due dates for the Call Reports, for example, to avoid falling on a weekend or holiday. In what way, if any, would changing due dates for the Call Reports reduce respondent burden?

7. What technology changes, if any, related to the submission of the Call Report could reduce respondent burden? Would these technology changes have the same impact on small and large respondents alike? Are there different considerations for institutions with complex activities versus those with a more traditional business model?

8. In what ways, if any, should the agencies consider modifying the Call Report forms or instructions, including their layout, structure, and availability, to improve their usability and reduce the resources required to prepare and file the report?

9. Are there current or emerging uses of technologies that the agencies should consider when reviewing the structure, content, or publication of the Call Report forms or instructions?

The Call Report instructions contain eligibility thresholds that determine which version of the Call Report a respondent may submit and, for each version, whether a respondent should report certain schedules or line items. (For example, reporting criteria may be based on the value of the respondent's total consolidated assets reported on June 30th of the prior year).

10. In what ways, if any, through what mechanisms, and with what frequency should any specific threshold in the Call Report instructions be revised or indexed on an ongoing basis, and why? Relatedly, in what ways, if any, could the agencies further align the content of each version of the Call Report to the risk profiles of applicable filers?

Short Form Call Report Eligibility and Content

As described in section II.A of this document, most institutions with total assets of less than $5 billion can submit a short form Call Report in the first and third quarters of the calendar year. Commenters are invited to respond to the following related questions:

11. Are there reasons eligible institutions have or have not chosen to use this option? Are there ways for the agencies to make this option more appealing to currently eligible institutions?

12. In what ways, if any, could the agencies revise the criteria for institutions to be eligible for reduced reporting while ensuring the safety and soundness of financial institutions and the financial system, and why? For example, should the eligibility for reduced reporting be related to a respondent's capital position or its ability to meet risk-based criteria?

13. Similarly, in what ways should the eligibility for reduced reporting be related to a respondent's business model and why? What readily available quantitative criteria do commenters consider most indicative of a community banking organization conducting a traditional banking model and why?

14. In what ways, if any, could the agencies further streamline the content of the short form Call Report in the first and third quarters of the calendar year to reduce burden on community banking organizations while ensuring their safety and soundness? What items other than those required by statute are essential for community banking organizations to report in the short form Call Report? To what subset of Call Report respondents should such revisions apply and why?

15. Should the agencies set a higher size threshold for the availability of the short form Call Report in the first and third quarters of the calendar year? If so, what should the total asset size be?

Agencies received comments through the current EGRPRA process indicating the agencies collect information that may exceed what is necessary to effectively monitor banks' safety and soundness.

16. Which specific Call Report data items or schedules, if any, do commenters consider nonessential for agencies to monitor safety and soundness or serve other mission critical needs? In your response, provide an explanation of whether these data items or schedules would relate to all respondents, or a subset of respondents based on specified asset size or risk profile.

Data Usage

Taken together, the Call Report and the Uniform Bank Performance Report (UBPR) ¹⁰ contain a considerable amount of data about individual institutions and their peer groups. A significant amount of data in the UBPR originates from bank Call Report filings. Commenters are invited to respond to the following related questions:

¹⁰ See https://www.ffiec.gov/data/ubpr.

17. To what extent and for what purposes do institutions and other stakeholders use Call Report and UBPR data (for example, peer comparison purposes, asset-liability management, shareholder meetings, and incentive compensation)?

18. In what ways, if any, would removing or reducing the frequency of certain data items or schedules impede these uses?

19. Are there data items in the Call Report that could be collected less frequently or at a more aggregated level that would have little or no impact to Call Report users?

20. Conversely, are there data items that are currently reported by institutions for which there is a need for more frequent or more granular collection? Why is this additional frequency or granularity needed?

Other Considerations on Regulatory Reporting

Federal law requires regular on-site safety-and-soundness examinations of insured depository institutions at least once during each 12-month period (or 18-month period for institutions that meet certain criteria). In between on-site examinations, the agencies conduct offsite monitoring each quarter using data collected in the Call Report. Such monitoring combined with discussions with institution management helps support decisions to maintain extended examination intervals for institutions that continue to be identified as lower risk or to potentially accelerate the timing of examinations or reviews of institutions experiencing adverse trends. These trends may emerge in more granular supervisory data that would not be apparent from high-level financial statements. They may also not be as evident with data that is collected less frequently. Thus, there is potentially a trade-off between the amount of supervisory data reported in the Call Reports and the frequency and content of the on-site examinations and other supervisory interactions with individual institutions necessary to evaluate an institution's ongoing condition.

21. How can the agencies balance the content and frequency of reporting requirements, on-site examinations, and discussions with management to better achieve the agencies' missions and limit burden for institutions?

Jonathan V. Gould,
Comptroller of the Currency.
Benjamin W. McDonough,
Deputy Secretary of the Board.
Federal Deposit Insurance Corporation.
Dated at Washington, DC, on November 24, 2025.
Jennifer M. Jones,
Deputy Executive Secretary.

[FR Doc. 2025-21621 Filed 11-28-25; 8:45 am]

BILLING CODE 4810-33-6210-01-6714-01-P